DEPARTMENT OF THE INTERIOR

Bureau of Land Management

[NV-040-1430-EU-040F]

Notice of Realty Action: Competitive Sale of Public Lands

AGENCY: Bureau of Land Management, Interior.

ACTION: Competitive Sale of Public Lands in Lincoln County, Nevada.

SUMMARY: The below listed public land in Lincoln County, Nevada has been designated for disposal under Public Law 106-298, the Lincoln County Land Act of 2000. The lands will be offered for competitive sale in accordance with Section 203 and Section 209 of the Federal Land Policy and Management Act of 1976 (90 Stat. 2750, 43 U.S.C. 1713, 1719, and 1740) at not less that fair market value (FMV). The sale is scheduled at public auction on October 12, 2001.

DATES: For a period of 45 days from the date of publication of this notice in the Federal Register, interested parties may submit comments to the Assistant Field Manager, Nonrenewable Resources, Ely Field Office.

ADDRESSES: Written comments should be addressed to: Bureau of Land Management, Jeffrey A. Weeks, Assistant Field Manager, HC 33 Box 33500, Ely, Nevada 89301-9408.

FOR FURTHER INFORMATION CONTACT: Detailed information concerning the sale, including the reservations, sale procedures and conditions, planning and environmental documents, are available at the Ely Field Office of the Bureau of Land Management, at 702 North Industrial Way, Ely, Nevada 89301, or by calling Kevin Finn at (775) 289-1849. In addition, information may be obtained by calling the General Services Office in San Francisco at (415) 522-3428 or by e-mail to karen.hoover@gsa.gov. Additional, but not all information, will be available on the Internet at http://www.nv.blm.gov.

SUPPLEMENTARY INFORMATION: The following described parcels of public land situated in Lincoln County, Nevada are being offered competitive sale.

Mount Diablo Meridian

Parcel A (N-74965)

T. 12 S., R. 71 E.,

Sec. 16, lots 2 to 7 inclusive, E½SE¼;

Sec. 17, lots 2 and 3, W½, and W½SE¼;

Sec. 18, E½NE¼ and SE¼;

Sec. 19, E½;

Sec. 20;

Sec. 21, W½;

Sec. 28, W½;

Sec. 29, lot 1, E½, E½NW¼, SW¼NW¼, and SW¼;

Sec. 30, lots 5, 8, 9 and 12;

Sec. 31, lots 5, 8 and 9;

Sec. 32, lots 1 and 4, E½, NW¼, and E½SW¼;

Sec. 33, W½ and N½SE¼;

Sec. 34, lot 7;

The areas described aggregate 4,357.63 acres.

Parcel B (N-74966)

T. 12 S., R. 70 E.,

Sec. 25, E½;

Sec. 36, E½ and SW¼;

T. 12 S., R. 71 E.,

Sec. 29, lot 2;

Sec. 30, lots 6, 7, 10, and 11, W½NE¼, W½, and W½SE¼;

Sec. 31, lots 6, 7, and 10, W½NE¼, W½, W½SE¼, and SE¼SE¼;

Sec. 32, lots 2 and 3;

The areas described aggregate 2,009.57 acres.

The above legal descriptions are subject to minor adjustments upon final approval of the official plats of survey, which will also provide a new legal description for these land parcels. If the land is sold, conveyance of the locatable mineral interests being offered have no known mineral value. Acceptance of a sale offer will constitute an application for conveyance of those mineral interests. The applicant will be required to pay a $50.00 non-refundable filing fee in conjunction with the final payment for processing of the conveyance of the locatable mineral interests. The terms and conditions applicable to the sale are as follows:

1. All leaseable and saleable mineral deposits are reserved on land sold; permittees, licenses, and licensees, and lessees, retain the right to prospect for, mine, and remove the minerals owned by the United States under applicable law and any regulations that the Secretary of the Interior may prescribe, including all necessary access and exit rights.

2. A right-of-way is reserved for ditches and canals constructed by authority of the United States under the Act of August 30, 1890 (43 U.S.C. 945).

3. All land parcels are subject to all valid and existing rights. Encumbrances of record are available for review during business hours, 7:30 to 4:30 p.m., Monday through Friday, at the Bureau of Land Management, Ely Field Office, 702 North Industrial Way, Ely, Nevada.

4. The parcels are subject to reservations for roads, public utilities and flood control purposes, both existing and proposed, in accordance with the local governing entities' Transportation Plans.

5. The high bidder will be required to sign a Development Agreement and Reconveyance Agreement within 30 days of the oral auction. The Development Agreement is to assure organized and planned development, and to assure a Master Plan submission to Lincoln County by the high bidder within 6 months of the auction. The Reconveyance Agreement is for the purpose of assuring compliance with the need for roads, school sites, and other public facilities. The Reconveyance Agreement will require at least 25% of the total acreage within the parcel to be transferred to Lincoln County for public purposes. Further information regarding the required Development and Conveyance Agreements may be obtained by calling Ace Robinson at 702-870-4043 or Paul Donohue at 775-962-1001.

6. All purchasers/patentees, by accepting a patent, agree to indemnify, defend, and hold harmless the United States from any costs, damages, claims, causes of action, penalties, fines, liabilities, and judgements of any kind or nature arising from the past, present, and future acts or omissions of the patentee or their employees, agents, contractors, or lessees, or any third party, arising out of, or in connection with, the patentee's use, occupancy, or operations of the patented real property. The indemnification and hold harmless agreement includes, but is not limited to, acts and omissions of the patentee and their employees, agents, contractors, or lessees, or any third party, arising out of or in connection with the use and/or occupancy of the patented real property which has already resulted or does hereafter result in: (1) Violation of federal, state, and local laws and regulations that are now, or may in the future become, applicable to the real property; (2) Judgements, claims or demands of any kind assessed against the United States; (3) Costs, expenses, or damages of any kind incurred by the United States; (4) or threatened releases of solid or hazardous waste(s) and/or hazardous substance(s), as defined by federal or state environmental laws; off, on, into or under land, property and other interests of the United States; (5) Other activities by which solids or hazardous substances or wastes, as defined by federal and state environmental laws are generated, released, stored, used or otherwise disposed of on the patented real property, and any cleanup response, remedial action, or other actions related in any manner to said solid or hazardous substances or wastes; or (6) Natural resources damages as defined by federal and state law. This covenant shall be construed as running with the patented real property and may be enforced by the United States in a court of competent jurisdiction.

The appraisal report for the parcels will be available for public review at the BLM's Ely Field office on or before August 10, 2001. Bids at the oral auction must be for not less than appraised fair market value (FMV).

The parcels will be offered for competitive sale by oral auction beginning at 10:00 a.m. PDT, October 12, 2001, at the Mesquite City Hall, 10 East Mesquite Blvd., Mesquite, Nevada. Registration for oral bidding will begin at 8:00 a.m. the day of sale and will continue throughout the auction. All bidders are required to register.

The highest qualifying bid for each parcel will be declared the high bid. The apparent high bidder must submit the required bid deposit immediately following the close of the sale in the form of cash, personal check, bank draft, cashiers check, money order, or any combination thereof, made payable to the Bureau of Land Management, for not less than 20 percent of the amount bid.

The remainder of the full bid price must be paid within 180 calendar days of the date of sale. Failure to pay the full price within the 180 days will disqualify the apparent high bidder and cause the bid deposit to be forfeited to the BLM. Federal law requires that bidders must be U.S. citizens 18 years of age or older, a corporation subject to the laws of any State or of the United States; a State, State instrumentality, or political subdivision authorized to hold property; or an entity, including but not limited to associations or partnerships, capable of holding property or interests therein under the law of the State of Nevada. Certification of qualification, including citizenship or corporation or partnership, must accompany the bid deposit. In order to determine the fair market value of the subject public lands through appraisal, certain assumptions have been made on the attributes and limitations of the lands and potential effects of local regulations and policies on potential future land uses. Through publication of this notice, the Bureau of Land Management gives notice that these assumptions may not be endorsed or approved by units of local government.

Furthermore, no warranty of any kind shall be given or implied by the United States as to the potential uses of the lands offered for sale; conveyance of the subject lands will not be on a contingency basis. It is the buyers' responsibility to be aware of all applicable local government policies and regulations that would affect the subject lands. It is also the buyer's responsibility to be aware of existing and potential uses for nearby properties. When conveyed out of federal ownership, the lands will be subject to any applicable reviews and approvals by the respective unit of local government for proposed future uses, and any such reviews and approvals would be the responsibility of the buyer. Any land lacking access from a public road or highway will be conveyed as such, and future access acquisition will be the responsibility of the buyer.

For a period of 45 days from the date of publication of this notice in the Federal Register, the general public and interested parties may submit comments to the Assistant Field Manager, Ely Field Office, 702 North Industrial, Ely, Nevada 89301. Any adverse comments will be reviewed by the Nevada State Director, who may sustain, vacate, or modify this realty action. In the absence of any adverse comments, the realty action will become the final determination of the Department of the Interior. The Bureau of Land Management may accept or reject any or all offers, or withdraw any land or interest in the land from sale, if, in the opinion of the authorized officer, communication of the sale would be fully consistent with FLPMA or other applicable laws or is determined not in the public interest. Any comments received during this process, as well as the commentor's name and address, will be available to the public in the administrative record and/or pursuant to the Freedom of Information Act request. You may indicate for the record that you do not wish your name and/or address made available to the public. Any determination by the Bureau of Land Management to release or withhold the names and/or addresses of those who comment will be made on a case-by-case basis. A commentor's request to have their name and/or address withheld from public release will be honored to the extent permissible by law.

Lands will not be offered for sale until at least 60 days after the date of publication of this notice in the Federal Register.

Dated: July 18, 2001.
Jeffrey A. Weeks,
Assistant Field Manager, Nonrenewable Resources.

[FR Doc. 01-20021 Filed 8-8-01; 8:45 am]

BILLING CODE 4310-HC-P